DEPARTMENT OF HEALTH AND HUMAN SERVICES

Administration on Aging

Public Information Collection Requirement Submitted to the Office of Management and Budget for Clearance

AGENCY: Administration on Aging, HHS.

The Administration on Aging (AoA), Department of Health and Human Services, has submitted the following proposal for the collection of information in compliance with the Paperwork Reduction Act (PRA; Pub. L. 96-511): State Annual Long-Term Care Ombudsman Report and Instructions.

Type of Request: Extension of a currently approved collection.

Use: Extension of reporting format for use by states in reporting on activities of their Long-Term Care Ombudsman Programs, as required under section 712 of the Older Americans Act, as amended.

Frequency: Annually.

Respondents: State Agencies on Aging.

Estimated Number of Responses: 52.

Total Estimated Burden Hours: 7,235.

Additional Information or Comments: The Administration on Aging has submitted to the Office of Management and Budget, for approval, an extension, with no revisions, of a reporting form and instructions for the State Annual Long-Term-Care Ombudsman Report, pursuant to requirements in Section 712(b) and (h) of the Older Americans Act. AoA published in the March 13, 2001 Federal Register a notice that it planned to request the extension and inviting comments; no comments were received. The form is currently being evaluated for possible revision to reflect additional programmatic reporting needs. However, this should not affect the PRA clearance process. Written comments and recommendations for the proposed information collection should be sent within 30 days of the publication of this notice directly to the following address: Office of Regulatory Affairs, Atten: Allison Herron Eydt, OMB Desk Officer, Room 10325, Washington, DC 20201.

Dated: June 15, 2001.
Norman L. Thompson,
Acting Principal Deputy Assistant Secretary for Aging.

[FR Doc. 01-15919 Filed 6-25-01; 8:45 am]

BILLING CODE 4154-01-P